DEPARTMENT OF TRANSPORTATION

Office of the Secretary

Requirements for Recognizing the Aviation and Aerospace Innovation in Science and Engineering Award

AGENCY: Office of the Secretary of Transportation, U.S. Department of Transportation.

ACTION: Notice of the announcement of Requirements for the Secretary of Transportation's RAISE (Recognizing Aviation and Aerospace Innovation in Science and Engineering) Award.

Authority: 15 U.S.C. 3719 (America COMPETES Act).

Award Approving Official: Ray LaHood, Secretary of Transportation.

SUMMARY: Pursuant to a recommendation by the DOT's Future of Aviation Advisory Committee, the Secretary of Transportation is announcing an award to recognize students who develop unique scientific and engineering innovations in aerospace. With this award, the Secretary of Transportation intends to create an incentive for participants at high schools, colleges, and universities to develop innovative solutions to aviation and aerospace issues, and to share those innovations with the broader community.

DATES: Effective on April, 2012 to October, 2012.

FOR FURTHER INFORMATION CONTACT: Patricia Watts, Ph.D., Federal Aviation Administration, (609) 485-5043 or James Brough, Federal Aviation Administration, (781) 238-7027.

SUPPLEMENTARY INFORMATION: Subject of Challenge Competition: The RAISE Award will recognize innovative scientific and engineering achievements that will have a significant impact on the future of aerospace or aviation. The award is open to students at the high school, undergraduate, and graduate levels. Following an open solicitation, the Award Review Board Chair will submit nominations to the Secretary of Transportation for final consideration.

Eligibility Rules for Participating in the Competition:

Selection Criteria

1. Candidates must be U.S. citizens or permanent residents and must have been enrolled for at least two semesters at a high school (or equivalent approved home school program), college, or university to be eligible to receive the award.

2. Students may participate as individuals or in groups. Each member of the group must meet the above criteria.

Further, to be eligible to win the award under this announcement, every candidate—

1. Shall first submit a project in the competition under the rules promulgated by the U.S. Department of Transportation;

2. Shall agree to execute indemnifications and waivers of claims against the federal government as provided in the registration materials;

3. May not be a Federal entity or Federal employee acting within the scope of employment; and

4. May not be an employee of the Department of Transportation or the Federal Aviation Administration.

A candidate shall not be deemed ineligible because the individual used Federal facilities or consulted with Federal employees during a competition, if the facilities and employees are made available to all individuals participating in the competition on an equitable basis.

Rules for Participants:

Rules for this competition will be available for download at www.challenge.gov. There is no charge to enter. A submission package will consist of the following sections in this order:

1. Nomination letter from at least one teacher, advisor, faculty member, and others as appropriate. The nomination letter(s) must communicate the following accomplishments in two areas:

Technical Merit of the Concept

Evidence of technical merit based upon teacher (parent or legal guardian in the case of home schooled applicants), advisor, or faculty nomination and evaluation of the submitted proposal, written paper, and/or reports.

Professionalism and Leadership

Evidence of professionalism and leadership can be in the form of, but not limited to:

(1) Membership and offices held in various groups

(2) Presentations made to various groups, meetings, and at symposia

(3) Leadership in student professional activities

(4) Community outreach activities

2. An overall summary of the innovation, not to exceed one page, which includes a statement of the impact that the innovation will have on the field of aviation or aerospace;

3. A copy of the student's academic transcript or certified grade report (as applicable);

4. A copy of the paper(s) and related materials describing the innovative concept written by the student(s) being nominated (no page limit).

All materials should be forwarded with a cover letter to the attention of: Patricia Watts, Ph.D., Centers of Excellence Program Director, Federal Aviation Administration, L-28, FAA William J. Hughes Technical Center, Atlantic City International Airport, NJ 08405.

Hardcopy is preferred; however, the package also may be transmitted by email to Patricia.Watts@FAA.gov. All entries must be received by 11:59 p.m. Pacific standard time on July 27, 2012. Award administrators assume no responsibility for lost or untimely submissions for any reason.

Award:

The winner will be announced in October. A trophy with the winner's name and date of award will be displayed at the Department of Transportation and a display copy of the trophy will be sent to the winner's school/college/university. An additional trophy will be awarded to the individual or team.

Basis Upon Which the Winner Will Be Selected:

All submissions will be initially reviewed by the FAA Center for Excellence (COE) Program Director upon receipt to determine if the submissions meet the eligibility requirements. Registration packages meeting the eligibility requirements will be judged by advisory panels consisting of academic experts, government officials including FAA, DOT, and others. The advisory panels will select the most highly qualified submissions and present them to the Secretary of the Department of Transportation, who will select the winning entrant.

Submissions will be judged on the following criteria:

Originality:

• Is this concept new or a variation of an existing idea, and in what way(s)?

• How is this work unique?

• Was the concept developed independently or in cooperation with others?

Impact:

• To what extent has this contribution:

○ Made a fundamental change?

○ Made a major contribution to the future of the aviation environment?

Practicality:

• Who directly benefits from this work?

• Can this program or activity be implemented in a practical fashion?

• What are the costs anticipated to be incurred and saved by executing this concept?

Measurability:

• How has this individual/group measured the impact on the aviation environment?

• To what extent does the innovation result in measurable improvements?

Applicability:

• Can this effort be scaled?

• Is this work specific to one region, various regions, or to the entire nation?

• How does this activity lead to future changes in aviation?

Technical Merit:

• Has the submission presented a clear understanding of the associated problems?

• Has the submission developed a logical and workable solution and approach to solving the problem/s?

• What are the most significant aspects of this concept?

• Has the submission clearly demonstrated the breadth of impact of the innovation?

All factors are important and will be given consideration, but the advisory panels will give the “technical merit” factor the most weight in the screening process. The Secretary of Transportation retains sole discretion to select the winning entrant.

Additional Information:

Federal grantees may not use Federal funds to develop COMPETES Act challenge applications unless such use is consistent with the purpose of their grant award.

Federal contractors may not use Federal funds from a contract to develop COMPETES Act challenge applications or to fund efforts in support of a COMPETES Act challenge submission.

Issued On: April 30, 2012.
Susan L. Kurland,
Assistant Secretary of Aviation and International Affairs.

[FR Doc. 2012-11465 Filed 5-10-12; 8:45 am]

BILLING CODE 4910-9X-P